SMALL BUSINESS ADMINISTRATION

Privacy Act of 1974; Computer Matching Program

AGENCY: Small Business Administration (SBA).

ACTION: Notice of a computer matching program—SBA and the Louisiana Office of Community Development (LOCD).

SUMMARY: In accordance with the Privacy Act of 1974, as amended by the Computer Matching and Privacy Protection Act of 1988, the Computer Matching Privacy Act Amendments of 1990, the Office of Management and Budget (OMB) Guidelines on the Conduct of Matching Programs, and OMB Bulletin 89-22, “Instructions on Reporting Computer Matching Programs to the Office of Management and Budget (OMB), Congress and the Public”, the Small Business Administration (SBA) is issuing a public notice of its intent to conduct a computer matching program with LOCD which uses a computer information system of SBA. The purpose of the computer matching program is to ensure that there is no duplication of benefits (DOB), as prohibited by the Small Business Act, between SBA disaster loans made to homeowners in Louisiana affected by the 2005 Gulf Coast hurricanes and LOCD grants to the same homeowners.

DATES: This matching program is expected to begin October 26, 2006. Any public comment must be received before this expected start date.

ADDRESSES: Any interested party may submit written comments to: Small Business Administration, Office of Disaster Assistance, 409 3rd Street, SW., Washington, DC 20416.

FOR FURTHER INFORMATION CONTACT: On the matching program: Becky Brantley, Disaster External Affairs Liaison, 202-205-6734, and on the Privacy Act: Lisa Babcock, Chief, Freedom of Information/Privacy Acts Office, 202-401-8203.

SUPPLEMENTARY INFORMATION: Pursuant to subsection (o) of the Privacy Act of 1974, as amended (15 U.S.C. 552a), the SBA and LOCD have concluded an agreement to conduct a computer matching program between the agencies. The purpose of the computer matching program is to exchange personal data to identify individuals who have been approved for an SBA home disaster loan as a result of the 2005 Gulf Coast hurricanes and who seek to obtain a grant from the LOCD for the same loss. Matching the information will prevent a DOB between an SBA disaster loan and an LOCD grant to the same homeowner. Section 7(b)(1) of the Small Business Act (15 U.S.C. 636(b)(1)) prohibits SBA, in making physical disaster loans, from duplicating the benefits that recipients of such loans may receive from other sources.

The parties to the agreement have determined that a computer matching program is the most efficient, expeditious, and effective means of obtaining and processing the information needed to make a decision on whether there is a DOB. The principal alternative to using this matching program would be to manually match the loan applications processed by SBA with the grant applications submitted to the LOCD. Manual matching would impose an administrative burden on the agencies and might result in delays in determining eligibility for LOCD grants to affected victims of the hurricanes.

A copy of the agreement between SBA and LOCD is available on request. Requests should be submitted to the same address listed above for comments.

Reporting of Matching Program

In accordance with the Privacy Act of 1974 (5 U.S.C. 552a), as amended by the Computer Matching and Privacy Protection Act of 1988 (Pub. L. 100-503), and the Computer Matching Privacy Act Amendments of 1990 (Pub. L. 101-56), (collectively, the Law), and OMB Bulletin 89-22, copies of this notice are being provided to the House Committee on Government Reform and the Senate Committee on Homeland Security and Governmental Affairs, and to OMB.

Authority

The matching program will be conducted pursuant to the Law.

Objectives To Be Met by the Matching Program

The matching program will allow LOCD and SBA to share data in order to prevent an applicant for an LOCD grant from receiving a DOB with an SBA home disaster loan.

Records To Be Matched

The SBA records involved in the match are home loan applications received by SBA from disaster victims in Louisiana as a result of the 2005 Gulf Coast hurricanes. These home loan application records are contained in the SBA Privacy Act System of Records: Disaster Loan Case File—SBA 20, last published at 69 FR 58598.

Period of the Match

The computer matching program will be conducted in accordance with the agreement between SBA and the LOCD. The agreement will remain in effect until the last LOCD grant award has been processed by LOCD or June 30, 2007, whichever is earlier. The agreement may be extended by mutual agreement of the parties. Either SBA or LOCD, upon thirty (30) days written notice, may request an extension or may terminate the agreement.

Charles McClam,
Acting Chief Information Officer.

[FR Doc. E6-15701 Filed 9-25-06; 8:45 am]

BILLING CODE 8025-01-P